DEPARTMENT OF HOMELAND SECURITY

8 CFR Part 103

[CIS No. 2490-09; DHS Docket No. USCIS-2009-0033]

RIN 1615-AB80

U.S. Citizenship and Immigration Services Fee Schedule; Correction

AGENCY: U.S. Citizenship and Immigration Services, DHS.

ACTION: Final rule; correction.

SUMMARY: The Department of Homeland Security corrects an inadvertent error in the amendatory language of the final rule U.S. Citizenship and Immigration Services Fee Schedule published in the Federal Register on September 24, 2010.

DATES: This correction is effective November 23, 2010.

FOR FURTHER INFORMATION CONTACT: Timothy Rosado, Acting Chief Financial Officer, U.S. Citizenship and Immigration Services, Department of Homeland Security, 20 Massachusetts Avenue, NW., Washington, DC 20529-2130, telephone (202) 272-1930.

SUPPLEMENTARY INFORMATION:

Need for Correction

On September 24, 2010, the Department of Homeland Security (DHS) published a final rule in the Federal Register adjusting the U.S. Citizenship and Immigration Services (USCIS) fee schedule. 75 FR 58962. As discussed in the preamble to the final rule, DHS determined that the fee for a refugee travel document for an adult age 16 or older should match the fee charged for the issuance of a passport to a United States citizen ($110 plus a $25 dollar execution fee). 75 FR at 58964, 58972. Accordingly, DHS intended to reduce the fee for filing Application for Travel Document, Form I-131, for a refugee travel document to $135 for an adult age 16 or older.

The final rule inadvertently listed a fee of $165 for filing an Application for Travel Document, Form I-131, for a refugee travel document for an adult age 16 or older. 75 FR at 58987. DHS needs to correct that portion of the final rule to indicate that an adult age 16 or older must submit a fee of $135 with an Application for Travel Document, Form I-131, to request a refugee travel document. No other changes are made in this correction.

Correction of Publication

Accordingly, the publication on September 24, 2010 (75 FR 58962) of the final rule that was the subject of FR Doc. 2010-23725 is corrected as follows:

§ 103.7 [Corrected]

1. On page 58987, in the first column, § 103.7 is amended by revising the dollar figure “$165” in paragraph (b)(1)(i)(M)(1) to read: “$135”.

Dated: November 9, 2010.
Christina E. McDonald,
Acting Associate General Counsel for Regulatory Affairs, Department of Homeland Security.

[FR Doc. 2010-28719 Filed 11-15-10; 8:45 am]

BILLING CODE 9111-97-P